SOCIAL SECURITY ADMINISTRATION

The Ticket to Work and Work Incentives Advisory Panel Meeting

AGENCY: Social Security Administration (SSA).

ACTION: Notice of teleconference and meeting.

DATES: Teleconference: January 23, 2001, 1:30-3:30 p.m.

Meeting

February 6, 2001, 8:30 a.m.-5 p.m.

February 7, 2001, 8:30 a.m.-5 p.m.

February 8, 2001, 9:00 a.m.-5 p.m.

ADDRESSES:

Teleconference

Social Security Administration, International Trade Center, 500 E St. SW, 8th Floor, Theatre Room, Washington, DC 20254.

Meeting

Bethesda Hyatt, One Bethesda Metro Center, Bethesda, MD, 20814; Phone 301-657-1234; Fax, 301-657-6453. The hotel is located two doors down from the Bethesda Metro Station on the Red line.

SUPPLEMENTARY INFORMATION: Type of meeting: These meetings are open to the public. Interested parties are invited to attend the meetings. The public is invited to participate by coming to the addresses listed above or calling into the teleconference. The public is also invited to submit comments in writing at any time on or before February 8, 2001.

Purpose: In accordance with section 10(a)(2) of the Federal Advisory Committee Act, the Social Security Administration (SSA) announces meetings of the Ticket to Work and Work Incentives Improvement Act (TWWIIA) Advisory Panel (the Panel). Section 101(f) of Public Law 106-170 establishes the Panel to advise the Commissioner of SSA, the President, and the Congress on issues related to work incentives programs, planning and assistance for individuals with disabilities as provided under section 101(f)(2)(A) of the TWWIIA. The Panel is also to advise the Commissioner on matters specified in section 101(f)(2)(B) of that Act, including certain issues related to the Ticket to Work and Self-Sufficiency Program established under section 101(a) of that Act.

The Panel will meet by teleconference commencing Tuesday, January 23, 2001 at 1:30 p.m. to 3:30 p.m. The Panel will use the teleconference to conduct full Panel deliberations on the implementation of the TWWIIA. Public testimony will not be taken.

Agenda (Teleconference): The Panel will deliberate on the implementation of TWWIIA. The public is invited to participate by coming in to the address listed above or calling in to the scheduled teleconference to listen. No public testimony will be taken.

The Panel will meet in person commencing Tuesday, February 6, 2001 at 8:30 a.m. to 5 p.m., Wednesday, February 7, 2001 at 8:30 a.m. to 5 p.m., and Thursday, February 8, 2001 at 9:00 a.m. to 5 p.m. The Panel will use the meeting to receive public testimony, hear presentations on the implementation of TWWIIA, conduct full Panel deliberations, receive briefings and conduct business.

Agenda (Meeting): Public testimony will be heard in person on Tuesday, February 6, 2001 and Wednesday, February 7, 2001 from 8:30 to 9:30. Individuals interested in providing testimony in person should contact the Panel staff as outlined below to schedule time slots. Members of the public must schedule a timeslot in order to comment.

Each presenter will be called on by the Chair in the order in which they are scheduled to testify and is limited to a maximum five-minute verbal presentation. Full written testimony on TWWIIA Implementation, no longer than 5 pages, may be submitted in person or by mail, fax or email on an on-going basis to the Panel for consideration.

In the event that the public comments do not take up the scheduled time period for each day, the Panel will use that time to deliberate and conduct other Panel business. Since seating and teleconference ports may be limited, persons interested in providing testimony at the in person meeting or in attending these meetings should contact the Panel staff by E-mailing Kristen M. Breland, at ‘kristen.m.breland@ssa.gov’ or calling (410) 966-7225.

The full agendas for the meetings follow this announcement. The agendas are posted on the Internet at http://www.ssa.gov/work/Resources/Toolkit/ or can be received in advance electronically or by fax upon request. Seating may be limited so persons interested in attending this meeting should contact the Panel staff by e-mail or telephone.

Contact Information: Anyone requiring information regarding the Panel should contact the TWWIIA Panel staff. Records are being kept of all Panel proceedings and will be available for public inspection by appointment at the Panel office. Anyone requiring information regarding the Panel should contact the Panel staff by:

• Mail addressed to Social Security Administration, Ticket to Work and Work Incentives Advisory Panel Staff, 107 Altmeyer Building, 6401 Security Boulevard, Baltimore MD, 21235.

• Telephone contact with Kristen Breland at (410) 966-7225.

• Fax at (410) 965-9063.

• E-mail to TWWIIAPanel@ssa.gov.

Dated: January 17, 2001.
Deborah M. Morrison,
Designated Federal Officer.

Ticket to Work and Work Incentives Advisory Panel—Public Teleconference Meeting

Social Security Administration, 8th Floor Theatre Room, 500 E Street, SW, Washington, DC 20254

Agenda

Tuesday, January 23, 2001

1:30 PM

Meeting Convened by Designated Federal Officer, Deborah Morrison; Sarah Wiggins Mitchell, Chair, Presiding

1:30-3:15 PM

Deliberations on the Implementation of the Ticket to Work and Work Incentives Improvement Act

3:15-3:30 PM

Administrative Issues

3:30 PM

Adjournment

Ticket to Work and Work Incentives Advisory Panel—Public Meeting

Bethesda Hyatt, One Bethesda Metro Center, Bethesda, MD 20814, Phone: (301) 657-1234; Fax (301) 657-6453. The hotel is located two doors down from the Bethesda Metro Station on the Red line.

Agenda

February 6, 7 and 8, 2001

Tuesday, February 6, 2001, Day 1

8:30 AM

Meeting Called to Order by Deborah Morrison, Designated Federal Officer; Welcome and Introductions—Sarah Mitchell, Chair, Presiding

8:30 to 9:30 AM

Public Testimony Comment Period on TWWIIA Implementation

9:30 to 10:30 AM

Presentations from SSA officials

10:30 to 10:45 AM

Break

10:45 to 11:45 AM

Presentations from Congressional Committee Staff

11:45 AM to 1:15 PM

Lunch (On Your Own)

1:15 PM

Meeting Reconvenes, Sarah Mitchell, Presiding

1:15 to 3:00 PM

Panel Deliberations on TWWIIA Implementation

3:00 to 3:30 PM

Break

3:00 to 5:00 PM

Panel Deliberations on TWWIIA Implementation

5:00 PM

Adjournment

Please note: If time allotted for public comment exceeds the time required, the Panel will use the time to deliberate on TWWIIA implementation.

Wednesday, February 7, 2001, Day 2

8:30 to 9:30 AM

Public Testimony Comment Period on TWWIIA Implementation

9:30 to 11:45 AM

Panel Deliberations on TWWIIA Implementation

11:45 AM to 1:15 PM

Lunch (On Your Own)

1:15 PM

Meeting Reconvenes Sarah Mitchell, Presiding

1:15 to 3:30 PM

Panel Deliberations on TWWIIA Implementation

3:30 to 3:45 PM

Break

3:45 to 5:00 PM

Panel Deliberations on TWWIIA Implementation

5:00 PM

Adjournment

Please note: If time allotted for public comment exceeds the time required, the Panel will use the time to deliberate on TWWIIA implementation.

Thursday, February 8, 2001, Day 3

9:00 to 11:45AM

Panel Deliberations on TWWIIA Implementation

11:45 AM to 1:15 PM

Lunch (On Your Own)

1:15 PM

Meeting Reconvenes Sarah Mitchell, Presiding

1:15 to 3:30 PM

Panel Deliberations on TWWIIA Implementation

3:30 to 3:45 PM

Break

3:45 to 5:00 PM

Business Meeting

5:00 PM

Adjournment by Designated Federal Officer

[FR Doc. 01-1952 Filed 1-19-01; 8:45 am]

BILLING CODE 4191-02-U